DEPARTMENT OF ENERGY

Federal Energy Regulatory Commission

[Docket No. RP00-418-000]

Mississippi River Transmission Corporation; Notice of Tariff Filing

August 2, 2000.

Take notice that on July 28, 2000, Mississippi River Transmission Corporation (MRT) tendered for filing as part of its FERC Gas Tariff, Third Revised Volume No. 1, the tariff sheets listed below to become effective September 1, 2000.

Thirty Fifth Revised Sheet No. 5

Thirty Fifth Revised Sheet No. 6

Thirty Second Revised Sheet No. 7

MRT states that the purpose of this filing is to place into effect transportation surcharge rates for a period of three months (September 1-November 30, 2000) to recover a portion of MRT's Gas Supply Realignment Costs (GSRC) related to Gas Price Differential costs. The surcharge rates would be applied to Rate Schedules FTS reservation rate, SCT and ITS volumetric rates. MRT proposes a true-up of the collection of these costs within 90 days of November 30, 2000.

MRT states that a copy of this filing is being mailed to each of MRT's customers and to the state commissions of Arkansas, Illinois and Missouri.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-19970 Filed 8-7-00; 8:45 am]

BILLING CODE 6717-01-M